ENVIRONMENTAL PROTECTION AGENCY

[EPA-HQ-OPP-2013-0676; FRL-9908-29]

Pesticides; Consideration of Spray Drift in Pesticide Risk Assessment: Extension of Comment Period

AGENCY: Environmental Protection Agency (EPA).

ACTION: Notice; extension of comment period.

SUMMARY: EPA issued a notice in the Federal Register of January 29, 2014, concerning the availability of two draft guidance documents for public comment. This document extends the comment period for 30 days, from March 31, 2014 to April 30, 2014. The comment period is being extended to provide additional time for commenters to prepare their responses.

DATES: Comments, identified by docket identification (ID) number EPA-HQ-OPP-2013-0676, must be received on or before April 30, 2014.

ADDRESSES: Follow the detailed instructions as provided under ADDRESSES in the Federal Register document of January 29, 2014.

FOR FURTHER INFORMATION CONTACT: For the ecological risk assessment guidance document, Faruque Khan, Environmental Fate and Effects Division, (7507P), Office of Pesticide Programs, Environmental Protection Agency, 1200 Pennsylvania Ave. NW., Washington, DC 20460-0001; telephone number: (703) 305-6127; email address: khan.faruque@epa.gov.

For the human health risk assessment guidance document, Jeff Dawson, Health Effects Division, (7509P), same address; telephone number: (703) 305-7329; email address: dawson.jeff.@epa.gov.

SUPPLEMENTARY INFORMATION: This document extends the public comment period established in the Federal Register notice of January 29, 2014 (79 FR 4691; FRL-9903-12), which requested comment on two draft guidance documents. The extension was requested by the National Agricultural Aviation Association, the Agricultural Retailers Association, and CropLife America. EPA is hereby extending the comment period, which was set to end on March 31, 2014, to April 30, 2014.

To submit comments, or access the docket, please follow the detailed instructions as provided under ADDRESSES in the January 29, 2014 Federal Register document. If you have questions, consult the person listed under FOR FURTHER INFORMATION CONTACT.

List of Subjects

Environmental protection, Administrative practice and procedure, Agricultural commodities, Pesticides and pests.

Dated: March 19, 2014.
Marty Monell,
Acting Director, Office of Pesticide Programs.

[FR Doc. 2014-06542 Filed 3-25-14; 8:45 am]

BILLING CODE 6560-50-P